DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed revision of the “National Longitudinal Survey of Youth 1997.” A copy of the proposed information collection request (ICR) can be obtained by contacting the individual listed in the ADDRESSES section of this notice.

DATES: Written comments must be submitted to the office listed in the Addresses section below on or before February 22, 2011.

ADDRESSES: Send comments to Carol Rowan, BLS Clearance Officer, Division of Management Systems, Bureau of Labor Statistics, Room 4080, 2 Massachusetts Avenue, NE., Washington, DC 20212. Written comments also may be transmitted by fax to 202-691-5111 (this is not a toll free number).

FOR FURTHER INFORMATION CONTACT: Carol Rowan, BLS Clearance Officer, 202-691-7628 (this is not a toll free number). (See ADDRESSES section.)

SUPPLEMENTARY INFORMATION:

I. Background

The National Longitudinal Survey of Youth 1997 (NLSY97) is a nationally representative sample of persons who were born in the years 1980 to 1984. These respondents were ages 12-17 when the first round of annual interviews began in 1997; the fifteenth round of annual interviews will be conducted from September 2011 to May 2012. The Bureau of Labor Statistics (BLS) contracts with the National Opinion Research Center (NORC) at the University of Chicago to conduct the NLSY97. The primary objective of the survey is to study the transition from schooling to the establishment of careers and families. The longitudinal focus of this survey requires information to be collected from the same individuals over many years in order to trace their education, training, work experience, fertility, income, and program participation.

One of the goals of the Department of Labor (DOL) is to produce and disseminate timely, accurate, and relevant information about the U.S. labor force. The BLS contributes to this goal by gathering information about the labor force and labor market and disseminating it to policymakers and the public so that participants in those markets can make more informed, and thus more efficient, choices. Research based on the NLSY97 contributes to the formation of national policy in the areas of education, training, work experience, fertility, income, and program participation. In addition to the reports that the BLS produces based on data from the NLSY97, members of the academic community publish articles and reports based on NLSY97 data for the DOL and other funding agencies. To date, approximately 160 articles examining NLSY97 data have been published in scholarly journals. The survey design provides data gathered from the same respondents over time to form the only dataset that contains this type of information for this important population group. Without the collection of these data, an accurate longitudinal dataset could not be provided to researchers and policymakers, thus adversely affecting the DOL's ability to perform its policy- and report-making activities.

II. Current Action

The BLS seeks approval to conduct round 15 of annual interviews of the NLSY97. Respondents to the NLSY97 will undergo an interview of approximately 65 minutes during which they will answer questions about schooling and labor market experiences, family relationships, and community background.

During the fielding period for the main round 15 interviews, about 2 percent of respondents will be asked to participate in a brief validation interview a few weeks after the initial interview. The purpose of the validation interview is to verify that the initial interview took place as the interviewer reported and to assess the data quality of selected questionnaire items.

The BLS plans to record randomly selected segments of the main interviews during round 15. Recording interviews helps the BLS and NORC to ensure that the interviews actually took place and that interviewers are reading the questions exactly as worded and entering the responses properly. Recording also helps to identify parts of the interview that might be causing problems or misunderstanding for interviewers or respondents. Each respondent will be informed that the interview may be recorded for quality control, testing, and training purposes. If the respondent objects to the recording of the interview, the interviewer will confirm to the respondent that the interview will not be recorded and then proceed with the interview.

During round 15, the BLS proposes to administer a noninterview respondent questionnaire to sample members who have missed at least five consecutive rounds and who do not complete the round 15 interview on first approach. Responses to this questionnaire will enable the BLS and NORC to learn more about long-term nonrespondents and therefore understand attrition patterns and any nonresponse bias. Other changes in round 15 include collecting permission forms from respondents to obtain their college transcripts. Permission forms were sought in round 14 from respondents who had received a high school diploma or GED credential or completed coursework in a postsecondary degree program. During round 15, BLS and NORC plan to seek permission forms from individuals who have not yet provided one, primarily those who did not complete the round 14 interview or who completed it by phone rather than in person.

The round 15 questionnaire includes questions on work schedules for respondents and their spouses or partners. The round 15 questionnaire also includes questions about the lowest wage at which a respondent would accept a job offer (known to labor economists as the reservation wage) and about the hours of desired work for such an offer. Questions will be asked about respondents' handedness, or left/right dominance, which is of interest to psychologists and neurologists, who have documented handedness as predictive of later neurological conditions. In addition, handedness has been studied as a predictor of workplace injuries.

As in prior rounds of the NLSY97, round 15 will include a pretest conducted several months before the main fielding to test survey procedures and questions and resolve problems before the main fielding begins. The Round 15 pretest will include a trial collection of birth certificates on a small number of survey respondents. Birth certificates are the optimal source of information about birth weight, a measure of considerable research interest given its relationship with child development, lifetime obesity, and other outcomes. This trial collection of birth certificates will provide insight into respondent reactions and concerns regarding the release of administrative records and the logistical issues surrounding the handling, acquiring, and coding of such documents. The round 15 pretest also will include a trial Internet collection of selected information used to locate respondents for interviews. The purpose of the trial is to determine whether Internet collection yields information of higher quality when compared to the current method of collecting the information as part of the interview. The Internet trial also will be used to assess respondent acceptance of Internet collection generally and whether such collection can reduce respondent burden without reducing the quality of the survey information.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Revision of a currently approved collection.

Agency: Bureau of Labor Statistics.

Title: National Longitudinal Survey of Youth 1997.

OMB Number: 1220-0157.

Affected Public: Individuals or households.

Form | Total respondents | Frequency | Total responses | Average time per response | Estimated total burden
NLSY97 Pretest: July-August 2011 | 150 | Annually | 150 | 65 minutes | 163 hours.
Collection of birth certificates in the NLSY97 Pretest: July-August 2011 | 135 | Once | 135 | 1.5 minutes | 3.4 hours.
Main NLSY97: September 2011-May 2012 | 7,400 | Annually | 7,400 | 65 minutes | 8,017 hours.
Round 15 Validation Interview | 147 | Annually | 147 | 4 minutes | 10 hours.
Noninterview Respondent Questionnaire | 130 | Annually | 130 | 10 minutes | 22 hours.
College Transcript Release Form | 2,500 | Once | 2,500 | 1.5 minutes | 62.5 hours.
TOTALS | 7,680 |  | 10,462 |  | 8,278 hours.
The difference between the total number of respondents and the total number of responses reflects the fact that about 2,500 are expected to complete the main interview and the college transcript permission form. In addition, about 147 respondents will be interviewed twice, once in the main survey and a second time in the 4-minute validation interview. Finally, the 135 pretest respondents expected to provide birth certificates or permission forms are included among the 150 respondents expected to complete the Round 15 pretest.

Total Burden Cost (capital/startup): $0.

Total Burden Cost (operating/maintenance): $0.

Comments submitted in response to this notice will be summarized and/or included in the request for Office of Management and Budget approval of the information collection request; they also will become a matter of public record.

Signed at Washington, DC, this 16th day of December 2010.
Kimberley D. Hill,
Chief, Division of Management Systems, Bureau of Labor Statistics.

[FR Doc. 2010-32155 Filed 12-21-10; 8:45 am]

BILLING CODE 4510-24-P